DEPARTMENT OF AGRICULTURE

Forest Service

Galena Project, Malheur National Forest, Grant County, OR

AGENCY: Forest Service, USDA.

ACTION: Notice of intent to prepare an environmental impact statement.

SUMMARY: The USDA Forest Service will prepare an environmental impact statement (EIS) to disclose environmental effects on a proposed action to improve forest health and reduce the fire hazard within the Vinegar Creek and Little Boulder/Deerhorn Creek subwatersheds. The Galena Project planning area, located approximately 2 miles west of Bates, Oregon, encompasses approximately 38,200 acres of National Forest System Lands administered by the Blue Mountain Ranger District, Malheur National Forest.

DATES: Comments concerning the scope of the analysis must be received by April 13, 2009. The draft environmental impact statement is expected August, 2009 and the final environmental impact statement is expected December, 2009.

ADDRESSES: Send written comments to the Responsible Official, Doug Gochnour, Forest Supervisor, Malheur National Forest, 431 Patterson Bridge Road, P.O. Box 909, John Day, Oregon 97845. Comments may also be sent via e-mail to comments-pacificnorthwest-malheur@fs.fed.us or via facsimile to 541-575-3002.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be part of the public record for this proposed action. Comments submitted anonymously will be accepted and considered; however, anonymous comments will not provide the respondent with standing to participate in subsequent administrative review or judicial review.

FOR FURTHER INFORMATION CONTACT: Eric Wunz, Project Manager, Malheur National Forest, 431 Patterson Bridge Road, P.O. Box 909, John Day, Oregon, telephone 541-575-3167, e-mail ewunz@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need of the Galena project is to improve the forest health and reduce the fire hazard within the Vinegar Creek and Little Boulder/Deerhorn Creek subwatersheds.

Proposed Action

This action includes precommercial thinning on approximately 2,800 acres, commercial harvest on approximately 6,900 acres, and underburning on approximately 24,000 acres. Harvest methods would include ground-based and skyline logging systems. Several roads are to be relocated out of riparian areas, resulting in new road construction in some locations. Other road activities include maintenance and reconstruction of existing roads, opening and re-closing existing closed roads, and building short temporary roads that are to be decommisioned after use. No commercial harvest or road construction is proposed within Appendix C Inventoried Dixie Butte and Vinegar Hill-Indian Rock Roadless Areas. Two Forest Plan amendments would be included that would allow reduction of satisfactory cover on 128 acres in the warm dry forest type and to add additional designated and replacement old growth stands to meet current Forest Plan standards.

Possible Alternatives

Alternatives will include the proposed action, no action, and additional alternatives that respond to issues generated during the scoping process. The agency will give notice of the full environmental analysis and decision-making process to interested and affected people may participate and contribute to the final decision.

Responsible Official and Nature of Decision To Be Made

The Responsible Official is Doug Gochnour, Forest Supervisor of the Malheur National Forest, 431 Patterson Bridge Road, P.O. Box 909, John Day, OR 97845. The Responsible Official will decide if the proposed project will be implemented and will document the decision and reasons for the decision in a Record of Decision. That decision will be subject to Forest Service Appeal Regulations. The responsibility for preparing the DEIS and FEIS has been delegated to Brooks Smith, District Ranger, Blue Mountain Ranger District.

Preliminary Issues

Preliminary issues identified include the potential effect of the proposed action on: Soils, water quality and fish habitat, snags and down wood, disturbance to cultural resources, potential for noxious weed expansion, threatened, endangered and sensitive aquatic, terrestrial and plant species, potential loss of economic value of trees damaged by insects or wildfire, and the safety and use of the area by public and land managers.

Scoping Process

This notice of intent initiates the scoping process, which guides the development of the environmental impact statement. Public participation will be especially important at several points during the analysis, beginning with the scoping process (40 CFR 1501.7). Initial scoping began with the project listed in the 2009 Winter Edition of the Malheur National Forest's Schedule of Proposed Actions. A Public meeting has been planned for April 8, 2009 to discuss the project. Also, correspondence with tribes, government agencies, organizations, and individuals who have indicated their interest will be conducted.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: March 6, 2009.
Doug Gochnour,
Forest Supervisor.

[FR Doc. E9-5364 Filed 3-11-09; 8:45 am]

BILLING CODE 3410-11-P